DEPARTMENT OF THE INTERIOR

Fish and Wildlife Service

50 CFR Part 17

[Docket No. FWS-HQ-ES-2021-0106; FF09E21000 FXES1111090FEDR 245]

Endangered and Threatened Wildlife and Plants; Finding for the Gray Wolf in the Northern Rocky Mountains and the Western United States

AGENCY: Fish and Wildlife Service, Interior.

ACTION: Notification of finding.

SUMMARY: We, the U.S. Fish and Wildlife Service (Service), announce a finding on the gray wolf (Canis lupus) in the Northern Rocky Mountains (NRM) and in the Western United States. After a thorough review of the best available scientific and commercial data, we find that gray wolves within the NRM area do not, on their own, represent a valid listable entity; therefore, the NRM is not warranted for listing under the Endangered Species Act of 1973, as amended (Act). We find that the gray wolf in the Western United States is a valid listable entity; however, the gray wolf in the Western United States does not meet the definition of an endangered species or a threatened species. Thus, we find that listing the gray wolf in the Western United States is not warranted at this time.

DATES: The finding in this document was made on February 7, 2024.

ADDRESSES: This finding and the supporting information that we developed for this finding, including the species status assessment (SSA) report and species assessment form, are available on the internet at https://www.regulations.gov at Docket No. FWS-HQ-ES-2021-0106. Please submit any new information, materials, comments, or questions concerning this finding to the appropriate person, as specified under FOR FURTHER INFORMATION CONTACT.

FOR FURTHER INFORMATION CONTACT: Marjorie Nelson, Acting Assistant Regional Director, Ecological Services Mountain-Prairie Region, 720-582-3524, marjorie_nelson@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Previous Federal Actions

Gray wolves were originally listed as subspecies or as regional populations of subspecies in the lower 48 United States and Mexico. We detail these various original rulemakings in the November 3, 2020, rule delisting the gray wolf throughout much of its range in the lower 48 States and Mexico (85 FR 69778).

In 1978, we published a rule reclassifying the gray wolf in Minnesota as a threatened species and gray wolves elsewhere in the lower 48 United States and Mexico as an endangered species. We later revised this listing by designating the population of gray wolves in the NRM, including Idaho, Montana, and Wyoming, the eastern one-third of Oregon and Washington, and a small portion of north-central Utah, as a Distinct Population Segment (DPS) and, following legal challenges and several rulemakings, ultimately delisting this population due to recovery (74 FR 15123, April 2, 2009; 76 FR 25590, May 5, 2011; 77 FR 55530, September 10, 2012; 82 FR 20284, May 1, 2017). Since delisting, gray wolves in the NRM have been managed by the States and Tribes.

On November 3, 2020, we published a final rule removing the Act's protections for gray wolves everywhere they were listed in the lower 48 States and Mexico, not including the Mexican wolf subspecies (Canis lupus baileyi) (85 FR 69778). The rule took effect January 4, 2021.

On June 1, 2021, we received a petition from the Center for Biological Diversity, the Humane Society of the United States, Humane Society Legislative Fund, and the Sierra Club requesting that the gray wolf in the NRM be emergency listed as a threatened species or an endangered species under the Act. The petition included, as an alternative option, a request that we list a Western DPS of gray wolf that would include all of California, Colorado, Idaho, Montana, Nevada, Oregon, Utah, Washington, and Wyoming, and, if the Service chose to include them, Arizona and New Mexico, north of Interstate 40 (first petition). The Act does not provide a process to petition for emergency listing; therefore, we evaluated this petition under the normal process of determining if it presented substantial scientific or commercial information indicating that the petitioned action may be warranted.

On July 29, 2021, we received a petition from Western Watersheds Project and 70 other organizations requesting that gray wolves in Idaho, Montana, Wyoming, Utah, Oregon, Washington, Colorado, California, Nevada, and northern Arizona be listed as an endangered species under the Act (second petition). On August 10, 2021, we received an addendum to the second petition, which provided minor clarifications and corrections to the original petition but did not change the scope of the petitioned entity.

On September 17, 2021, we published a 90-day finding (86 FR 51857) concluding that both petitions contained substantial information indicating that the petitioned actions may be warranted, and we initiated a status review to determine whether the petitioned actions were warranted.

On February 10, 2022, the gray wolf 2020 final delisting rule was vacated and remanded by the U.S. District Court for the Northern District of California. (Defenders of Wildlife v. US Fish and Wildlife Service, No. 21-00344 (N.D. Cal.), WildEarth Guardians v. Bernhardt, No. 21-00349 (N.D. Cal.), NRDC v. U.S. Department of the Interior, No. 21-00561 (N.D. Cal.)). On November 3, 2023, we published a final rule to comply with the district court's order (88 FR 75506). As a result, all gray wolves in the lower 48 States, outside of the NRM, are currently listed under the Act. The court's decision was specific to the gray wolf and does not affect the separate endangered listing of the Mexican wolf subspecies.

On March 1, 2022, we received a petition from the International Wildlife Coexistence Network and nine other organizations requesting that a DPS of the gray wolf in the NRM or in the Western United States be emergency listed under the Act. As stated previously, we evaluate petitions requesting emergency listing under our normal petition review process. However, because we were actively engaged in a status review of the entities for which the petitioners requested listing, we did not issue a 90-day finding; rather, we evaluated the information provided by the petitioners in the context of this status review.

On August 9, 2022, petitioners (June 1, 2021 petition) filed a lawsuit to compel us to complete a 12-month finding on their petition (Center for Biological Diversity et al. v. U.S. Department of the Interior et al. No. 22-00134 (D. MT). On March 31, 2023, the parties entered into a settlement agreement under which the Service agreed that, on or before February 2, 2024, we would submit to the Federal Register a determination as to whether listing a Northern Rocky Mountains DPS or a Western United States DPS of the gray wolf as a threatened species or an endangered species is warranted, not warranted, or warranted but precluded by other pending proposals.

Background

Under section 4(b)(3)(B) of the Act (16 U.S.C. 1531 et seq.), we are required to make a finding, within 12 months after receiving any petition that we have determined contains substantial scientific or commercial information indicating that the petitioned action may be warranted, as to whether the petitioned action is warranted, not warranted, or warranted but precluded by other pending proposals (known as a “12-month finding”). We must publish a notification of this 12-month finding in the Federal Register.

Listable Entity Requirements

Under the Act, the term “species” includes any subspecies of fish or wildlife or plants, and any distinct population segment of any vertebrate fish or wildlife which interbreeds when mature (16 U.S.C. 1532(16)). To interpret and implement the distinct population segment (DPS) provisions of the Act, the Service and the National Oceanic and Atmospheric Administration published in the Federal Register the Policy Regarding the Recognition of Distinct Vertebrate Population Segments Under the Endangered Species Act on February 7, 1996 (61 FR 4722) (DPS Policy). Under the DPS Policy, we consider three elements to determine whether to classify a population of a vertebrate species as a DPS: (1) the discreteness of the population segment in relation to the remainder of the species to which it belongs; (2) the significance of the population segment to the species to which it belongs; and (3) the population segment's conservation status in relation to the Act's standard for listing, delisting, or reclassification. Both discreteness and significance are used to determine whether the population segment constitutes a valid DPS. If it does, then the population segment's conservation status is used to consider whether the DPS warrants listing.

Summary of Biological Information

Gray wolves are the largest wild members of the Canidae or dog family (Mech 1974, pp. 11-12). Gray wolves have a circumpolar range including North America, Europe, and Asia. In the Western United States, the gray wolf currently occurs in one interconnected metapopulation with packs distributed across California, Idaho, Montana, Oregon, Washington, and Wyoming, and, more recently, wolves have been documented in Colorado (Service 2023, pp. 13-16).

Gray wolves are highly territorial, social animals and group hunters, normally living in packs with high reproductive capacity (Mech 1970, pp. 38-43; Mech and Boitani 2003, p. 8; Paquet and Carbyn 2003, pp. 485-486; Stahler et al. 2020, p. 46). Gray wolves are habitat generalists, meaning they can thrive in a variety of habitats and consume a diversity of prey species (though wolves are primarily predators of medium and large mammals) (Mech and Boitani 2003, p. 163). In general, to maintain populations in the wild over time, wolves in the Western United States need well-connected and genetically diverse subpopulations that function as a metapopulation distributed across enough of their range to be able to withstand stochastic events, rebound after catastrophes (e.g., severe disease outbreaks), and adapt to changing environmental conditions (Service 2023, p. 29).

Summary of Information Pertaining to the Five Factors

Section 4 of the Act (16 U.S.C. 1533) and the implementing regulations at part 424 of title 50 of the Code of Federal Regulations (50 CFR part 424) set forth procedures for adding species to, removing species from, or reclassifying species on the Lists of Endangered and Threatened Wildlife and Plants (Lists). The Act defines “species” as including any subspecies of fish or wildlife or plants, and any distinct population segment of any species of vertebrate fish or wildlife which interbreeds when mature (16 U.S.C. 1532(16)). The Act defines an “endangered species” as any species that is in danger of extinction throughout all or a significant portion of its range (16 U.S.C. 1532(6)), and a “threatened species” as any species that is likely to become an endangered species within the foreseeable future throughout all or a significant portion of its range (16 U.S.C. 1532(20)). Under section 4(a)(1) of the Act, a species may be determined to be an endangered species or a threatened species because of any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to or are reasonably likely to negatively affect individuals of a species. The term “threat” includes actions or conditions that have a direct impact on individuals (direct impacts), as well as those that affect individuals through alteration of their habitat or required resources (stressors). The term “threat” may encompass—either together or separately—the source of the action or condition or the action or condition itself.

However, the mere identification of any threat(s) does not necessarily mean that the species meets the statutory definition of an “endangered species” or a “threatened species.” In determining whether a species meets either definition, we must evaluate all identified threats by considering the expected response by the species, and the effects of the threats—in light of those actions and conditions that will ameliorate the threats—on an individual, population, and species level. We evaluate each threat and its expected effects on the species, then analyze the cumulative effect of all of the threats on the species as a whole. We also consider the cumulative effect of the threats in light of those actions and conditions that will have positive effects on the species, such as any existing regulatory mechanisms or conservation efforts. The Secretary determines whether the species meets the Act's definition of an “endangered species” or a “threatened species” only after conducting this cumulative analysis and describing the expected effect on the species now and in the foreseeable future.

The Act does not define the term “foreseeable future,” which appears in the statutory definition of “threatened species.” Our implementing regulations at 50 CFR 424.11(d) set forth a framework for evaluating the foreseeable future on a case-by-case basis. The term “foreseeable future” extends only so far into the future as we can reasonably determine that both the future threats and the species' responses to those threats are likely. In other words, the foreseeable future is the period of time in which we can make reliable predictions. “Reliable” does not mean “certain”; it means sufficient to provide a reasonable degree of confidence in the prediction. Thus, a prediction is reliable if it is reasonable to depend on it when making decisions.

It is not always possible or necessary to define the foreseeable future as a particular number of years. Analysis of the foreseeable future uses the best scientific and commercial data available and should consider the timeframes applicable to the relevant threats and to the species' likely responses to those threats in view of its life-history characteristics. Data that are typically relevant to assessing the species' biological response include species-specific factors such as lifespan, reproductive rates or productivity, certain behaviors, and other demographic factors.

In conducting our evaluation of the five factors in section 4(a)(1) of the Act to determine whether the gray wolf in the Western United States meets the Act's definition of an “endangered species” or “threatened species,” we considered and thoroughly evaluated the best scientific and commercial information available regarding the past, present, and future stressors and threats. We reviewed the petitions, information available in our files, and other available published and unpublished information for the gray wolf in the Western United States. Our evaluation included information from recognized experts; Federal, State, and Tribal governments; academic institutions; foreign governments; private entities; and other members of the public.

This document announces the not-warranted finding for the gray wolf in the NRM and the gray wolf in the Western United States, in accordance with the regulations at 50 CFR 424.14(h)(2)(i). In this document, we have also elected to include a summary of the analysis on which this finding is based. We provide the full analysis, including our rationale and the data on which the finding is based, in the decisional file for the action in this document. The following is a description of the documents containing this full analysis:

The species assessment form contains detailed biological information; a thorough analysis of the listing factors; an explanation of why we determined (1) the gray wolf in the NRM is not a valid listable entity and (2) the gray wolf in the Western United States is a valid listable entity, but this entity does not meet the Act's definition of an “endangered species” or a “threatened species”; and a list of literature cited. To inform our status review, we completed an SSA Report for the gray wolf in the Western United States (Service 2023, entire). The SSA contains a thorough review of the taxonomy, life history, ecology, current condition, and projected future condition for the gray wolf in the Western United States. This supporting information can be found on the internet at https://www.regulations.gov at Docket No. FWS-HQ-ES-2021-0106 (see ADDRESSES, above).

Our analysis for this decision applied our current regulations, portions of which were last revised in 2019. Given that we proposed further revisions to these regulations on June 22, 2023 (88 FR 40764), we have also analyzed whether the decision would be different if we were to apply those proposed revisions. We concluded that the decision would have been the same if we had applied the proposed 2023 regulations. The analysis under both the regulations currently in effect and the regulations after incorporating the June 22, 2023, proposed revisions are included in our decision file for this action.

Gray Wolf in the NRM

Summary of Finding

After a thorough review of the best available scientific and commercial data, we determined that gray wolves within the boundaries of the NRM DPS described in our 2009 rule (i.e., Idaho, Montana, and Wyoming, the eastern one-third of Oregon and Washington, and a small portion of north-central Utah) no longer constitute a valid DPS. Gray wolves in the NRM are not markedly separated from other populations of the taxon outside of the NRM western boundary (i.e., the wolves in the eastern one-third of Oregon and Washington are not markedly separated from the wolves in California and the western two-thirds of Oregon and Washington) and, therefore, the NRM does not meet the “discreteness” element of the DPS Policy as a consequence of physical, physiological, ecological, or behavioral factors (61 FR 4722, February 7, 1996). Thus, we find that gray wolves in the NRM area do not, on their own, represent a valid DPS and we do not consider the status of gray wolves in the NRM area as a separately listable entity. However, we considered the status of gray wolves in the NRM area in the context of our significant portion of the range analysis for the gray wolf in the Western United States (see below). A detailed discussion of the basis for this finding can be found in the species assessment form and other supporting documents (see ADDRESSES, above).

Gray Wolf in the Western United States

Summary of Finding

Based on our review of the best available scientific data, we determined that the gray wolf in the Western United States is a DPS. We find that the gray wolf in the Western United States meets both possible discreteness criteria of our DPS Policy: (1) it is markedly separated, genetically and physically, from other populations of the taxon (i.e., wolves in the Great Lakes area and “coastal wolves”); and (2) it is delimited by international governmental boundaries (the United States and Canada border) within which differences in control of exploitation and regulatory mechanisms exist that are significant in light of section 4(a)(1)(D) of the Act (61 FR 4722, February 7, 1996). We also find that the gray wolf in the Western United States meets the significance criteria of the DPS Policy because its loss would result in a significant gap in the range of the taxon because it would create a gap of more than 1,000 mi (1,600 km) between the Mexican wolf subspecies of gray wolf to the south of the Western United States wolf metapopulation and gray wolves in Canada to the north. Because the Western United States population of gray wolf is both discrete and significant, we determined that it is a valid DPS and considered its conservation status under the Act.

We have carefully assessed the best scientific and commercial information available regarding the past, present, and future threats to the gray wolf in the Western United States and evaluated the five listing factors, including any regulatory mechanisms and conservation measures addressing these threats. The primary stressors with the potential to affect the gray wolf's biological status include human-caused mortality (Factor C), disease and parasites (Factor C), and inbreeding depression (Factor E) (Service 2023, pp. 30-93). We also considered the potential effects of climate change (Factor E), diseases in prey species (Factor E), and other sources of habitat modification (Factor A) on gray wolves in the Western United States, but these stressors have not negatively influenced gray wolf viability, nor are they anticipated to do so in the foreseeable future (Service 2023, pp. 93-103).

Our assessment of current condition indicates that habitat and prey for wolves are abundant and well distributed in the Western United States. This, in conjunction with the high reproductive potential of wolves and their innate behavior to disperse and locate social openings or vacant suitable habitats, has allowed wolf populations to withstand relatively high rates of human-caused mortality. Our analysis of the current condition of gray wolves in the Western United States demonstrates that, despite current levels of regulated harvest, lethal control, and episodic disease outbreaks, wolf abundance in the Western United States has generally continued to increase and occupied range has continued to expand since reintroduction in the 1990s, with the exception of 3 years during which wolf abundance in the Western metapopulation decreased slightly (i.e., a decrease of approximately 50 to 100 wolves in 1 year). As of the end of 2022, States estimated that there were 2,797 wolves distributed among at least 286 packs in 7 States. This large population size and broad distribution contributes to the resiliency and redundancy of wolves in the Western United States. Moreover, wolves in the Western United States currently have high levels of genetic diversity and connectivity, further supporting the resiliency of wolves throughout the West. Finally, based on several metrics for assessing adaptive capacity, wolves in the Western United States currently retain the ability to adapt to changes in their environment (representation) (Service 2023, pp. 104-134).

We also evaluated the future condition of gray wolves in the Western United States under multiple different future scenarios that varied levels of harvest and disease. Our analysis indicates that wolves will avoid extirpation in the Western United States over the next 100 years. Even in the extremely unlikely scenarios in which harvest substantially increases and is maintained at high rates over time in Idaho and Montana, while population sizes decrease in these states, the overall population remains well above quasi-extinction levels in the Western United States; the median projected population sizes for the entirety of Idaho, Montana, Oregon, Washington, and Wyoming (the five states we modeled) in 100 years ranged from 935 wolves (95% Credible Interval 739-1,091) for the most impactful combination of disease and harvest scenarios we analyzed to 2,161 wolves (95% Credible Interval 1,684-2,586) for the least impactful combination of disease and harvest scenarios we analyzed. More generally, gray wolves in the Western metapopulation will retain the ability to withstand stochastic and catastrophic events in the future (resiliency and redundancy) despite the decrease in the number of wolves relative to current condition under our future scenarios. We also expect the population size to remain large enough, with sufficient connectivity and genetic diversity, to avoid consequential levels of inbreeding or inbreeding depression in the future. Given this maintained connectivity, combined with wolves' adaptable life-history characteristics, we expect wolf populations in the Western United States will be able to maintain their evolutionary potential and adapt to future change (representation). The likelihood of additional wolves in California and Colorado (and possibly in Arizona, New Mexico, and Utah in the long term), the continued recolonization of Western Oregon and Washington, and the availability of suitable wolf habitat and prey further support the continued viability of the gray wolf in the Western United States under the existing management commitments, albeit at potentially reduced population sizes compared to current numbers (Service 2023, pp. 135-188).

According to our analysis of the best available scientific and commercial data, now and into the foreseeable future, wolves in the Western United States are projected to withstand environmental and demographic stochasticity, increased human-caused mortality, potential disease events, and changing environmental conditions. Given the natural resiliency of wolf populations (e.g., high fecundity, dispersal abilities), the conservation efforts and regulatory mechanisms in place reinforce that States within the Western U.S. metapopulation will continue to manage human-caused mortality such that this stressor does not compromise the current or future viability of the metapopulation.

Specifically, now and into the foreseeable future, wolves are likely to retain a healthy level of abundance. Given the assumptions in our model (Service 2023a, pp. 181-186), our analysis of our model projections indicates that there is no risk of quasi-extinction in the next 100 years under any of our future scenarios. More specifically, according to the population projections from our forecasting model (Service 2023, pp. 185-188), which incorporates Idaho, Montana, and Wyoming's minimum management commitments since delisting (Service 2023, pp. 163-164), we project there would be at least 739 wolves throughout Idaho, Montana, Oregon, Washington, and Wyoming for the next 100 years (Service 2023, pp. 185-188) (according to the lower credible interval of the population projection from the most impactful combination of disease and harvest scenarios we analyzed, scenarios we find unlikely for the reasons explained in the SSA Report (Service 2023, pp. 172-177)). If states continue to harvest wolves at past observed rates of harvest (Harvest Scenario 1), which they have yet to significantly exceed despite implementing less-restrictive regulations and which are more consistent with new management objectives in Idaho (IDFG 2023b, pp. 39-42), the projected population size would remain above approximately 1,300 to 1,600 wolves for the next 100 years, even with catastrophic levels of disease (Service 2023, pp. 185-188). Prey and habitat are not limiting and are not likely to become so. Wolves are also likely to retain their connectivity within the Western United States and to Canada, supporting healthy levels of genetic diversity. Wolves are also likely to be able to withstand catastrophic events (i.e., disease) now and into the foreseeable future, given their retention of a wide distribution, their high fecundity, and the fact that our models indicate the population would not crash due to catastrophic disease events. Finally, wolves currently have the ability to and will retain the ability to adapt to changes in their environment given their retained distribution across a diversity of ecoregions (even with projected future population declines in Idaho and Montana), their generalist life history, and their genetic diversity. Thus, after assessing the best available data, we conclude that the gray wolf in the Western United States is not in danger of extinction or likely to become so in the foreseeable future throughout all of its range.

Having concluded that gray wolves in the Western United States are not in danger of extinction or likely to become so in the foreseeable future throughout their range, we also evaluated four different potential significant portions of the range: (1) Idaho; (2) Montana; (3) California, Western Oregon, and Western Washington; and (4) the NRM. We determined that, due to the current and projected demographic health of these portions and the existing regulatory mechanisms, none of these portions are in danger of extinction or likely to become so in the foreseeable future (i.e., none of these portions have a different status than the gray wolf throughout its entire range in the Western United States, now or into the foreseeable future). After assessing the best available data, we concluded that the gray wolf in the Western United States is not in danger of extinction, or likely to become in danger of extinction in the foreseeable future, throughout all of its range or in any significant portion of its range. Therefore, we find that listing the gray wolf in the Western United States as an endangered species or a threatened species under the Act is not warranted. A detailed discussion of the basis for this finding can be found in the species assessment form and other supporting documents (see ADDRESSES, above).

Peer Review

In accordance with our July 1, 1994, peer review policy (59 FR 34270; July 1, 1994) and the Service's August 22, 2016, Director's Memo on the Peer Review Process, we solicited independent scientific reviews of the information contained in the SSA report for the gray wolf in the Western United States. On behalf of the Service, an outside contractor sent the SSA report to five independent peer reviewers and received five responses. Results of this structured peer review process can be found at https://www.regulations.gov. We incorporated the results of these reviews, as appropriate, into the SSA report, which is the scientific foundation for this finding.

References Cited

A list of the references cited in this petition finding is available in the species assessment form, which is available on the internet at https://www.regulations.gov at Docket No. FWS-HQ-ES-2021-0106 (see ADDRESSES, above).

Authors

The primary authors of this document are the staff members of the Species Assessment Team, Ecological Services Program.

Authority

The authority for this action is section 4 of the Endangered Species Act of 1973, as amended (16 U.S.C. 1531 et seq.).

Martha Williams,
Director, U.S. Fish and Wildlife Service.

[FR Doc. 2024-02419 Filed 2-6-24; 8:45 am]

BILLING CODE 4333-15-P